DEPARTMENT OF AGRICULTURE

Forest Service

Chequamegon-Nicolet National Forest; Wisconsin, Phelps Vegetation and Transportation Management Project

AGENCY: Forest Service, USDA.

ACTION: Notice of intent to prepare an environmental impact statement.

SUMMARY: The Eagle River-Florence Ranger District intends to prepare an environmental impact statement (EIS) to disclose the environmental consequences of proposed land management activities. The Phelps Vegetation and Transportation Management Project area is approximately 53,055 acres in size; about 24,500 acres of this is National Forest System land, 19,100 acres are other ownerships, and 9,020 acres are water. The project area is located in Vilas County, directly south of the Wisconsin-Michigan border, east of State Highway 45, and north of County Highway A, Wisconsin. The legal description is T41N, R11E; T41N, R12E; T42N, R11E; and T42N, R12E. See the SUPPLEMENTARY INFORMATION section for the purpose and need for the action.

DATES: Comments concerning the scope of the analysis must be received by September 13, 2010. The draft environmental impact statement is expected January 2011 and the final environmental impact statement is expected May 2011.

ADDRESSES: Send written comments to District Ranger Joel Skjerven, Eagle River-Florence Ranger District, Chequamegon-Nicolet National Forest, 1247 East Wall Street, Eagle River, WI 54521. Comments may also be sent via e-mail to the district ranger through the project leader at cbrunner@fs.fed.us, or via facsimile to 715-479-6407.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Christine Brunner, NEPA Coordinator, Eagle River-River-Florence Ranger District, Chequamegon-Nicolet National Forest, 1247 East Wall Street, Eagle River, WI 54521. Individuals who use telecommunication devices for the deaf (TDD) may call the Federal Information Relay Service (FIRS) at 1-800-877-8339 between 8 a.m. and 8 p.m., Eastern Time, Monday through Friday.

SUPPLEMENTARY INFORMATION:

Purpose and Need for Action

Two major areas of focus were identified for this project—vegetation and transportation. Based on the Forest Plan desired future conditions for the area, the following eight needs were identified by the Interdisciplinary Team: (1) Move northern hardwood stands in MA 2A toward an uneven-aged condition consistent with the Forest Plan; (2) promote healthy forests; (3) improve the aspen age class distribution; (4) improve upland forest type composition; (5) maintain adequate openings to provide habitat for wildlife species dependent on early successional forest; (6) reduce hazardous fuels and reintroduce fire as a disturbance regime in the Wildland Urban Interface west of Lac Vieux Desert; (7) contribute toward satisfying the demand for wood products; (8) provide a safe, efficient, and effective transportation system.

Proposed Action

In order to address the vegetation needs identified above, approximately 8430 acres of various forest types would be harvested using selection, overstory removal, shelterwood, clearcut, and thin methods. As a result of clearcutting portions of four contiguous stands in order to convert them to less fire-prone species, a 44-acre temporary opening would be created. Other proposed actions include 240 acres of mechanical site preparation for regeneration, 54 acres of burning for regeneration, 35 acres of planting, and 237 acres of wildlife opening improvement.

The proposed action includes the following to address need 8 above: Decommission approximately 31 miles of unauthorized road, close 6 miles of system road closed, reconstruct 12 miles of road, and construct 0.8 miles of new road.

Possible Alternatives

One alternative to the Proposed Action that was developed in response to a public comment would result in the following changes: Approximately 6,455 fewer acres of harvest, 58 fewer acres of opening improvement, and 8.3 fewer miles of road reconstruction.

Responsible Official

The responsible official is District Ranger Joel Skjerven.

Nature of Decision To Be Made

The decision will be limited to answering the following questions based on the environmental analysis: (1) Will the proposed action proceed as proposed, as modified, or not at all; (2) what mitigation measures and monitoring requirements are needed, if any; (3) will the decision require a Forest Plan amendment?

Preliminary Issues

The following issues will be analyzed in the EIS: Effects of the proposed action and alternatives on soil, water, Regional Forester Sensitive Species, and non-native invasive species.

Scoping Process

This notice of intent initiates the scoping process, which guides the development of the environmental impact statement. The District began the scoping process for this project as an environmental assessment during March 2010. Approximately 345 persons and organizations were sent information packages, and a notice was placed in the newspaper of record. The project is also listed in the Chequamegon-Nicolet Schedule of Proposed Actions, and is viewable on the Forest Web page at http://fs.usda.gov/goto/cnnf/nepa and click on “View a Listing of all Under Analysis,” then select Phelps Vegetation and Transportation Management Project.”

It is important that reviewers provide their comments at such times and in such manner that they are useful to the agency's preparation of the environmental impact statement. Therefore, comments should be provided prior to the close of the comment period and should clearly articulate the reviewer's concerns and contentions.

Dated: August 2, 2010.
Paul I.V. Strong,
Forest Supervisor.

[FR Doc. 2010-19904 Filed 8-12-10; 8:45 am]

BILLING CODE 3410-11-P